DEPARTMENT OF THE INTERIOR

Bureau of Land Management

[LLNV934000.L71220000.JP0000. LVTFFX00080A, MO# 4500063088]

Notice of Temporary Closure on Public Lands in the Gold Butte, Mormon Mesa, and Bunkerville Flats Areas in the Northeastern Portion of Clark County, NV

AGENCY: Bureau of Land Management, Interior.

ACTION: Notice of Temporary Closure.

SUMMARY: Notice is hereby given that a temporary closure to public access, use, and occupancy will be in effect for the dates and times specified in this Notice on public lands administered by the Bureau of Land Management (BLM), Southern Nevada District Office, Las Vegas Field Office, within the Gold Butte, Mormon Mesa, and Bunkerville Flats Areas in the northeastern portion of Clark County, Nevada. This temporary closure is necessary to limit public access, use, and occupancy during an impoundment of illegally grazing cattle to ensure the safety and welfare of the public, contractors, and government employees. On March 10, 2014, the BLM signed a Decision Record to implement the temporary closure (see also Environmental Assessment DOI-BLM-NVS010-2014-0020-EA). The temporary closure decision was approved by the Department of the Interior on March 24, 2014.

DATES: Effective Dates: The temporary closure of public lands will be in effect between March 27, 2014 and May 12, 2014.

FOR FURTHER INFORMATION CONTACT: Ryan Chatterton, Project Manager 702-515-5187, email: mrchatterton@blm.gov. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: This temporary closure to public access affects public lands in the Gold Butte, Mormon Mesa, and Bunkerville Flats Areas in the northeastern portion of Clark County, Nevada that are managed by the Bureau of Land Management, and are within the legal description as follows:

Mount Diablo Meridian, Nevada

T. 13S., Rs. 67 thru 71E;

T. 14S., Rs. 67 thru 71E;

T. 15S., Rs. 67 thru 71E;

T. 16S., Rs. 67 thru 71E;

T. 17S., R. 67 and Rs. 69 thru 71 E;

T. 18S., R. 67 and Rs. 69 thru 71 E;

T. 19S., R. 67 and Rs. 69 thru 71 E;

T. 20S., Rs. 69 and 70 E.

The area described contains approximately 578,724 acres in Clark County, Nevada.

The temporary closure will not affect all of the above-described lands, but will instead only encompass those public lands necessary to ensure safe operations and only for the period of time necessary to achieve safety objectives.

The impound operation includes the authorized use of low-flying aircraft to herd and capture cattle from various portions of the Gold Butte, Mormon Mesa, and Bunkerville Flats areas. The area is remote with limited vehicular access over steep, rugged terrain. There will be numerous vehicles and support staff conducting operations in this area, as well as movement of feral cattle that pose a threat to public safety. Enforcement of the temporary closure by law enforcement personnel will be limited to those geographic areas determined by Incident Command staff, within the overall closure boundary, that need to be closed based on planned and on-going operations to ensure the safety of the public, Federal employees, and contractor personnel.

It is anticipated the impound operations will last approximately 21 days, but could last up to 30 days depending upon weather, location of cattle, success of capture operations, and other variable conditions. The temporary closure may be rescinded prior to May 12, 2014, if impound operations are successfully completed before that date.

Maps of the affected area and other documents associated with this temporary closure are available at the Southern Nevada District Office, 4701 N. Torrey Pines Drive, Las Vegas, NV 89130 and at the BLM Web site http://www.blm.gov/nv/st/en/fo/lvfo.html. This Notice will be posted in the local BLM district office with jurisdiction over the lands to which the order applies (43 CFR 8364.1(b)(5) and 43 CFR 423.12, respectively).

Exceptions: The temporary closures will affect only public lands within the described closure area. Not all public lands within the closure area will be temporarily closed and some closed areas may be reopened during the impound operations if operations have moved to another geographic area. Areas temporarily closed to public access will be posted with signs, barricades, if appropriate, and copies of this temporary closure. Enforcement of the temporary closure by law enforcement personnel will be limited to those geographic areas determined by Incident Command staff, within the overall closure boundary, that need to be closed based on planned and on-going operations to ensure the safety of the public, Federal employees, and contractor personnel.

Two locations are available for members of the public to express their First Amendment rights: I-15 and Exit 112 for Riverside and State Route 170 and White Rock Road. Only one area will be available at a time; Incident Command staff will determine daily which location is most suitable, based on impound operation activities and safety considerations, and will post the location on BLM and National Park Service (NPS) websites.

A media information and interview area will be located at the Intersection of I-15 and Toquap Wash (between mile marker 114 and 115). This location will serve as the primary location for media to conduct in-person interviews during the impoundment operations and temporary closure. Staffed times will be flexible based on media interest and return times of media from observation tours.

Within the closure area, escorted media viewing opportunities will be made available for BLM/NPS credentialed media during the impoundment operation. In order to gain media access during the impound, media representatives must be BLM/NPS credentialed and RSVP by calling 702-515-5226 the day before they wish to observe so guidelines and logistical details may be provided.

Private landholders and holders of valid rights-of-way will be granted access through public lands affected by this temporary closure for the purposes of accessing their private land or right-of-way only.

Penalties: In accordance with Section 303(a) of the Federal Land Policy and Management Act of 1976 (43 U.S.C. 1733 (a)) and 43 CFR 8360.0-7, the BLM will enforce the temporary closures that are put in place on public lands in northeastern Clark County, Nevada.

The following persons are exempt from this temporary closure: Federal, State, and local officers and employees in the performance of their official duties; members of organized rescue or fire-fighting forces in the performance of their official duties; and persons with written authorization from the BLM.

A person who violates the above order may be cited and tried before a United States Magistrate and fined no more than $1,000, imprisoned for no more than 12 months, or both. Such violations may also be subject to the enhanced fines provided for by 18 U.S.C. 3571.

(Authority: 43 CFR 8364.1)

Gayle Marrs-Smith,
Las Vegas Field Office Manager, Bureau of Land Management.

[FR Doc. 2014-06826 Filed 3-26-14; 8:45 am]

BILLING CODE 4310-HC-P